INTERNATIONAL TRADE COMMISSION

[Investigation No. 731-TA-461 (Third Review)]

Gray Portland Cement and Cement Clinker From Japan

Determination

On the basis of the record ¹ developed in the subject five-year review, the United States International Trade Commission (Commission) determines,² pursuant to section 751(c) of the Tariff Act of 1930 (19 U.S.C. 1675(c)), that revocation of the antidumping duty order on gray Portland cement and cement clinker from Japan would be likely to lead to continuation or recurrence of material injury to an industry in the United States within a reasonably foreseeable time.

¹ The record is defined in sec. 207.2(f) of the Commission's Rules of Practice and Procedure (19 CFR § 207.2(f)).

² Commissioner Dean A. Pinkert did not participate in this review.

Background

The Commission instituted this review on May 2, 2011 (76 FR 24519) and determined on August 5, 2011 that it would conduct an expedited review (76 FR 50252, August 12, 2011).

The Commission transmitted its determination in this review to the Secretary of Commerce on December 2, 2011. The views of the Commission are contained in USITC Publication 4281 (December 2011), entitled Gray Portland Cement and Cement Clinker from Japan: Investigation No. 731-TA-461 (Third Review).

By order of the Commission.
Issued: December 2, 2011.
James R. Holbein,
Secretary to the Commission.

[FR Doc. 2011-31491 Filed 12-7-11; 8:45 am]

BILLING CODE 7020-02-P